DEPARTMENT OF HOMELAND SECURITY

Transportation Security Administration

Intent To Request a Revision From OMB of One Current Public Collection of Information: Department of Homeland Security Traveler Redress Inquiry Program (DHS TRIP)

AGENCY: Transportation Security Administration, Homeland Security (DHS).

ACTION: 60-Day notice.

SUMMARY: The Transportation Security Administration (TSA) invites public comment on one currently approved Information Collection Request (ICR), Office of Management and Budget (OMB) control number 1652-0044, abstracted below that we will submit to OMB for a revision in compliance with the Paperwork Reduction Act (PRA). The ICR describes the nature of the information collection and its expected burden. The collection involves the submission of identifying the travel experience information submitted by individuals requesting redress through the Department of Homeland Security (DHS) Traveler Redress Inquiry Program (TRIP).

DATES: Send your comments by August 3, 2021.

ADDRESSES: Comments may be emailed to TSAPRA@tsa.dhs.gov or delivered to the TSA PRA Officer, Information Technology, TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0044; Department of Homeland Security Traveler Redress Inquiry Program (DHS TRIP). DHS TRIP is a single point of contact for individuals who have inquiries or seek resolution regarding difficulties they have experienced during their travel screening. These difficulties could include: (1) Denied or delayed boarding; (2) denied or delayed entry into or departure from the United States at a port of entry; or (3) identified for additional (secondary) screening at our Nation's transportation facilities, including airports, seaports, train stations and land borders. The TSA manages the DHS TRIP office on behalf of DHS. To request redress, individuals are asked to provide identifying information, as well as details of their travel experience in two surveys.

The DHS TRIP office serves as a centralized intake office for traveler requests for redress and uses the online Traveler Inquiry Form (TIF) to collect requests for redress. DHS TRIP then passes the information to the relevant DHS TRIP practitioner office(s), including components of DHS, the U.S. Department of State, and the U.S. Department of Justice, to process the request, as appropriate. Participating DHS components include TSA, U.S. Customs and Border Protection, U.S. Immigration and Customs Enforcement, U.S. Citizenship and Immigration Services, the National Protection and Programs Directorate's Office of Biometric Information Management, Office of Civil Rights and Civil Liberties, and the Privacy Office, along with the U.S. Department of State, Bureau of Consular Affairs, and the U.S. Department of Justice, Terrorist Screening Center. This collection serves to distinguish misidentified individuals from an individual actually on any watch list that DHS uses, to initiate the correction of erroneous information about an individual contained in government-held records, which are leading to travel difficulties, and, where appropriate, to help streamline and expedite future check-in or border crossing experiences. It also serves to obtain information about the redress applicants' level of satisfaction with the DHS TRIP application process with the aim of using this information to identify areas for improvement.

Due to its importance in air transportation, the United States was elected to the Governing Council during the 2019 International Civil Aviation Organization (IACO) Assembly. ICAO creates regulations for aviation safety, security, efficiency and regularity and environmental protection. The organization also creates standards to provide uniformity in regulations, procedures and organization in relation to aircraft, personnel, airways, and auxiliary services in order to improve air navigation. TSA is revising the information collection by aligning the TIF question set to capture additional criteria to meet ICAO standards. As a result, the question set has been edited to meet the standards.

DHS estimates completing the form, and gathering and submitting the information will take approximately one hour. The annual respondent population was derived from data contained within the DHS case management database and reflects the actual number of respondents for the most recent calendar year. The estimated annual number of burden hours for passengers seeking redress, based on 15,000 annual respondents, is 15,000 hours (15,000 × 1 hour). DHS estimates 10 percent of the 15,000 respondents completing the form will complete the two surveys to share details of their application experience. The completion of the surveys will take approximately 10 minutes, giving an estimated annual number of burden hours as 250 (1,500 × .0167). The total estimated annual number of burden hours for this collection is 15,250 (15,000 + 250) hours.

Christina A. Walsh,
TSA Paperwork Reduction Act Officer, Information Technology.

[FR Doc. 2021-11770 Filed 6-3-21; 8:45 am]

BILLING CODE 9110-05-P